FEDERAL ELECTION COMMISSION

Sunshine Act Meeting

TIME AND DATE: Thursday, September 2, 2021 at 10:00 a.m.

PLACE: Virtual Meeting. NOTE: Because of the Covid-19 Pandemic, We Will Conduct the Open Meeting Virtually. If You Would Like to Access The Meeting, See the Instructions Below.

STATUS: The September 2, 2021 Open Meeting has been canceled.

CONTACT PERSON FOR MORE INFORMATION: Judith Ingram, Press Officer, Telephone: (202) 694-1220.

Authority: Government in the Sunshine Act, 5 U.S.C. 552b.

Vicktoria J. Allen,
Acting Deputy Secretary of the Commission.

[FR Doc. 2021-19132 Filed 8-31-21; 4:15 pm]

BILLING CODE 6715-01-P